DEPARTMENT OF THE INTERIOR

Bureau of Land Management

[LLHQ310000.L13100000. PP0000.21X]

Notice Regarding Use of Truck-Mounted Coriolis Meters; Correction

AGENCY: Bureau of Land Management, Interior.

ACTION: Notice of correction.

SUMMARY: The Bureau of Land Management (BLM) published a document in the Federal Register of August 31, 2021, clarifying its position on the use of truck-mounted Coriolis meters under the Bureau's oil-measurement regulations. The document referenced two incorrect Code of Federal Regulations citations.

FOR FURTHER INFORMATION CONTACT: Amanda Eagle, Production Management Team Lead for the Division of Fluid Minerals, BLM Headquarters Office, 301 Dinosaur Drive, Santa Fe, NM 87508; phone 907-538-2300; email pmt@blm.gov. Persons who use a telecommunications device for the deaf (TDD) may call the Federal Relay Service (FRS) at 1-800-877-8339 to contact Ms. Eagle. The FRS is available 24 hours a day, 7 days a week, to leave a message or question. You will receive a reply during normal business hours.

SUPPLEMENTARY INFORMATION:

Correction

In the Federal Register of August 31, 2021, in FR Doc. 2021-18750:

On page 48760, in the second column, correct line 40 to read “complying with § 3174.9, which”

On page 48760, in the second column, correct line 42 to read “components” for a CMS, and § 3174.10,”

Sheila Mallory,
Acting Chief, Division of Fluid Minerals.

[FR Doc. 2021-22779 Filed 10-19-21; 8:45 am]

BILLING CODE 4310-84-P